DEPARTMENT OF TRANSPORTATION

Federal Aviation Administration

14 CFR Part 71

[Docket No. FAA-2006-25947; Airspace Docket No. 06-AAL-31]

Proposed Revision of Class D/E Airspace; Big Delta, Allen Army Airfield, Fort Greely, AK

AGENCY: Federal Aviation Administration (FAA), DOT.

ACTION: Notice of proposed rulemaking.

SUMMARY: This action proposes to revise the controlled airspace at Allen Army Airfield (AAF), AK. The current Class D airspace is continuous. The United States Army has decided to staff the Allen AAF air traffic control tower (ATCT) part time. The Class D and E airspace will need to be revised in order to align Class D airspace effective times to match ATCT hours of operation. The current title of the airspace described in FAA Order 7400.9P will also change to reflect current guidance in FAA Order 7400.2E. Adoption of this proposal would result in reconfiguring the controlled airspace at Allen AAF, Delta Junction, AK.

DATES: Comments must be received on or before December 15, 2006.

ADDRESSES: Send comments on the proposal to the Docket Management System, U.S. Department of Transportation, Room Plaza 401, 400 Seventh Street, SW., Washington, DC 20590-0001. You must identify the docket number FAA-2006-25947/Airspace Docket No. 06-AAL-31, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

An informal docket may also be examined during normal business hours at the office of the Manager, Safety, Alaska Flight Service Operations, Federal Aviation Administration, 222 West 7th Avenue, Box 14, Anchorage, AK 99513-7587.

FOR FURTHER INFORMATION CONTACT: Gary Rolf, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2006-25947/Airspace Docket No. 06-AAL-31.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of Notice of Proposed Rulemaking's (NPRM's)

An electronic copy of this document may be downloaded through the Internet at http://dms.dot.gov. Recently published rulemaking documents can also be accessed through the FAA's Web page at http://www.faa.gov or the Superintendent of Document's Web page at http://www.access.gpo.gov/nara.

Additionally, any person may obtain a copy of this notice by submitting a request to the Federal Aviation Administration, Office of Air Traffic Airspace Management, ATA-400, 800 Independence Avenue, SW., Washington, DC 20591 or by calling (202) 267-8783. Communications must identify both docket numbers for this notice. Persons interested in being placed on a mailing list for future NPRM's should contact the FAA's Office of Rulemaking, (202) 267-9677, to request a copy of Advisory Circular No. 11-2A, Notice of Proposed Rulemaking Distribution System, which describes the application procedure.

The Proposal

The FAA is considering an amendment to the Code of Federal Regulations (14 CFR Part 71), which would revise the Class D and E airspace descriptions at Allen AAF, AK resulting from a change in the hours of activation at the Allen AAF Control Tower. The intended effect of this proposal is to adjust the Class D airspace activation time to align with the Allen AAF tower hours of operation. The class D airspace would only be in place while the tower is manned. The Class D airspace area will be effective during the specific dates and times established in advance by a Notice to Airmen. The effective date and time will thereafter be continuously published in the Airport/Facility Directory.

The Army does not need to operate the control tower 24 hours per day. Class D airspace is only in effect when a tower is open. When the tower is not open, the airspace would revert to Class E. Additionally, the title of each airspace description in FAA Order 7400.9P associated with Allen AAF would be changed. By convention, these titles are associated with the nearest city or town. In this case, “Delta Junction” should be referenced (not “Big Delta”). For example, the Class E5 airspace should be titled: “AAL AK E5 Delta Junction, AK”. There is a smaller town named Big Delta about 10 miles further north of Delta Junction. It has been mistakenly listed in the description since 1995. This action would correct that error. The proposed airspace changes are sufficient in size to contain aircraft executing instrument procedures at Allen AAF, AK.

The area would be depicted on aeronautical charts for pilot reference. The coordinates for this airspace docket are based on North American Datum 83. The Class D airspace areas designated as 700/1200 foot transition areas are published in paragraph 6005 in FAA Order 7400.9P, Airspace Designations and Reporting Points, dated September 1, 2006, and effective September 15, 2006, which is incorporated by reference in 14 CFR 71.1. The Class D and E airspace designations listed in this document would be published subsequently in the Order.

The FAA has determined that this proposed regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle 1, section 106 describes the authority of the FAA Administrator. Subtitle VII, Aviation Programs, describes in more detail the scope of the agency's authority.

This rulemaking is promulgated under the authority described in subtitle VII, part A, subpart 1, section 40103, Sovereignty and use of airspace. Under that section, the FAA is charged with prescribing regulations to ensure the safe and efficient use of the navigable airspace. This regulation is within the scope of that authority because it proposes changes to Class D and E airspace that remain sufficient in size to contain aircraft executing instrument procedures at Allen AAF and represents the FAA's continuing effort to safely and efficiently use the navigable airspace.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS D AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is to be amended as follows:

* * * * *

Paragraph 5000 General.

* * * * *

AAL AK D Delta Junction, AK [Revised]

Allen AAF, AK

(Lat. 63°59″40′ N., long. 145°43″18′ W.)

Big Delta VORTAC

(Lat. 64°00″16′ N., long. 145°43″02′ W.)

Delta Junction Airport (D66), AK

(Lat. 64°03″02′ N., long. 145°43″02′ W.)

That airspace extending upward from the surface to and including 3,800 feet MSL within a 6.3-mile radius from Allen AAF; excluding the portion within the boundary of restricted areas R2202A and R2202C, and excluding that airspace below 700 feet above the surface contained within an area from an East/West line 1/2-mile south of the Delta Junction Airport (D66), extending from 1 mile east of the Richardson Highway to 1 mile west of the Delta River, thence northwest and parallel to the Richardson Highway and the Delta River, to the 6.3-mile radius from Allen AAF. This Class D airspace area is effective during the specific dates and times established in advance by a Notice to Airmen. The effective date and time will thereafter be continuously published in the Airport/Facility Directory.

Paragraph 6000 General.

* * * * *

AAL AK E2 Delta Junction, AK [Revised]

Allen AAF, AK

(Lat. 63°59″40′ N., long. 145°43″18′ W.)

Within an area from an East/West line ½-mile south of the Delta Junction Airport (D66), extending from 1 mile east of the Richardson Highway to 1 mile west of the Delta River, thence northwest and parallel to the Richardson Highway and the Delta River, to the 6.3-mile radius from Allen AAF. This Class E2 airspace area is effective only when Class D airspace is activated.

Paragraph 6004 Class E airspace areas designated as an extension to a Class D surface area.

* * * * *

AAL AK E4 Delta Junction, AK [Revised]

Allen AAF, AK

(Lat. 63°59″40′ N., long. 145°43″18′ W.)

Big Delta VORTAC

(Lat. 64°00″16′ N., long. 145°43″02′ W.)

The airspace extending upward from the surface within 3 miles north and 2.6 miles south of the 039° radial of the Big Delta VORTAC extending from the 6.3-mile radius from Allen AAF to 10.3 miles northeast of Allen AAF.

Paragraph 6005 Class D airspace extending upward from 700 feet or more above the surface of the earth.

* * * * *

AAL AK E5 Delta Junction, AK [Revised]

Allen AAF, AK

(Lat. 63°59″40′ N., long. 145°43″18′ W.)

Big Delta VORTAC

(Lat. 64°00″16′ N., long. 145°43″02′ W.)

That airspace extending upward from 700 feet above the surface within an 8.6-mile radius of Allen AAF, and within 3 miles north and 2.6 miles south of the 039° radial of the Big Delta VORTAC extending from the 8.6-mile radius from Allen AAF, to 10.3 miles northeast of Allen AAF; excluding the portion within restricted areas 2202A and R2202C.

* * * * *

Issued in Anchorage, AK, on October 23, 2006.
Anthony M. Wylie,
Director, Alaska Flight Service Information Office.

[FR Doc. E6-18264 Filed 10-30-06; 8:45 am]

BILLING CODE 4910-13-P